FEDERAL ELECTION COMMISSION

Sunshine Act Notice

Date and Time: Tuesday, June 22, 2004 at 10 a.m.

Place: 999 E Street, NW., Washington, DC.

Status: This meeting will be closed to the public.

Items To Be Discussed:

Compliance matters pursuant to 2 U.S.C. 437g.

Audits conducted pursuant to U.S.C. 437g, § 438(b), and Title 26, U.S.C.

Matters concerning participation in civil actions or proceedings or arbitration.

Internal personnel rules and procedures or matters affecting a particular employee.

Date and Time: Thursday, June 24, 2004 at 10 a.m.

Place: 999 E Street, NW., Washington, DC (Ninth Floor).

Status: This meting will be open to the public.

Items To Be Discussed:

Correction and Approval of Minutes.

Advisory Opinion 2004-15: Bill of Rights Educational Foundation by David T. Hardy.

Advisory Opinion 2004-17: Becky Armendariz Klein, candidate for U.S. House of Representatives, Texas—District 25.

Routine Administrative Matters.

FOR FURTHER INFORMATION CONTACT: Mr. Robert Biersack, Acting Press Officer, Telephone: (202) 694-1220.

Mary W. Dove,
Secretary of the Commission.

[FR Doc. 04-13763 Filed 6-15-04; 8:45 am]

BILLING CODE 6715-01-M